DEPARTMENT OF ENERGY

Federal Energy Regulatory Commission

Combined Notice of Filings #1

Take notice that the Commission received the following exempt wholesale generator filings:

Docket Numbers: EG26-155-000.

Applicants: Santa Teresa Storage, LLC.

Description: Santa Teresa Storage, LLC submits Notice of Self-Certification of Exempt Wholesale Generator Status.

Filed Date: 2/17/26.

Accession Number: 20260217-5295.

Comment Date: 5 p.m. ET 3/10/26.

Docket Numbers: EG26-156-000.

Applicants: Hillsboro Solar Project LLC.

Description: Hillsboro Solar Project LLC submits Notice of Self-Certification of Exempt Wholesale Generator Status.

Filed Date: 2/11/26.

Accession Number: 20260211-5149.

Comment Date: 5 p.m. ET 3/4/26.

Take notice that the Commission received the following electric rate filings:

Docket Numbers: ER10-1915-012; ER23-1766-001; ER10-3275-006; ER10-3278-004; ER10-1963-012; ER22-284-001; ER20-2060-002; ER23-2113-001; ER10-3274-004; ER18-213-004; ER10-2638-012.

Applicants: Waterbury Generation, LLC, Pittsfield Generating Company, L P, Pawtucket Power Associates Limited Partnership, ETEM Remediation Two LLC, MPH Rockaway Peakers, LLC, MPH AL Pierce, LLC, Jamaica Bay Peaking Facility, LLC, Forked River Power LLC, Capitol District Energy Center Cogeneration Associates, Boott Hydropower, LLC, Bayswater Peaking Facility, LLC.

Description: Response to 12/17/2025, Deficiency Letter of Bayswater Peaking Facility, LLC et al.

Filed Date: 2/13/26.

Accession Number: 20260213-5335.

Comment Date: 5 p.m. ET 3/6/26.

Docket Numbers: ER10-2783-020; ER10-2960-016; ER10-1838-011; ER19-2231-008; ER19-2232-008; ER10-2798-019; ER10-2799-019; ER22-1449-003; ER22-1450-003; ER22-1662-003; ER21-2423-007; ER21-2424-007; ER10-1967-012; ER10-2878-020; ER10-1968-011; ER10-2879-019; ER10-1616-019; ER23-1299-001; ER10-2969-020; ER22-46-007; ER22-1402-004; ER22-1404-004; ER22-2713-002; ER10-1990-011; ER18-1821-011; ER10-1993-011.

Applicants: Waymart Wind Farm, L.P., Walleye Power, LLC, Somerset Windpower, LLC, Parkway Generation Sewaren Urban Renewal Entity LLC, Parkway Generation Operating LLC, Parkway Generation Keys Energy Center LLC, Parkway Generation Essex, LLC, Oswego Harbor Power LLC, OnPoint Energy Northeast, LLC, New Covert Generating Company, LLC, Montville Power LLC, Mill Run Windpower, LLC, Middleton Power LLC, Meyersdale Windpower LLC, Generation Bridge M&M Holdings, LLC, Generation Bridge Connecticut Holdings, LLC, GB II New York LLC, GB II New Haven LLC, GB II Connecticut LLC, Devon Power LLC, Connecticut Jet Power LLC, Chief Keystone Power II, LLC, Chief Conemaugh Power II, LLC, Backbone Mountain Windpower, LLC, Astoria Generating Company, L.P., Arthur Kill Power LLC.

Description: Response to 01/12/2026, Deficiency Letter of Arthur Kill Power LLC et al.

Filed Date: 2/11/26.

Accession Number: 20260211-5151.

Comment Date: 5 p.m. ET 3/4/26.

Docket Numbers: ER11-2557-000; ER11-2552-000; ER11-2558-000; ER11-2555-000; ER11-2556-000; ER25-2185-000.

Applicants: National Grid Generation LLC, National Grid Port Jefferson, National Grid Glenwood Energy Center LLC, Niagara Mohawk Power Corporation, Massachusetts Electric Company, New England Power Company.

Description: Supplement to 12/23/2025, Triennial Market Power Analysis for Northeast Region of New England Power Company, et al.

Filed Date: 2/17/26.

Accession Number: 20260217-5311.

Comment Date: 5 p.m. ET 3/10/26.

Docket Numbers: ER16-1714-001; ER16-1891-001; ER14-1439-008; ER19-2250-008; ER25-1360-001.

Applicants: TrailStone Energy Marketing, LLC, Engelhart CTP Energy Marketing, LLC, TrailStone Energy Marketing, LLC, TrailStone Power, LLC, Engelhart CTP (US) LLC, Engelhart CTP (US) LLC.

Description: Notice of Change in Status of Engelhart CTP (US) LLC, et al.

Filed Date: 2/13/26.

Accession Number: 20260213-5337.

Comment Date: 5 p.m. ET 3/6/26.

Docket Numbers: ER21-57-000.

Applicants: Shell Energy North America (US), L.P.

Description: Refund Report: Refund Report.

Filed Date: 2/18/26.

Accession Number: 20260218-5141.

Comment Date: 5 p.m. ET 3/11/26.

Docket Numbers: ER26-1084-001.

Applicants: PJM Interconnection, L.L.C.

Description: Tariff Amendment: Limited Amendment to Pending GIA, SA No. 7797; Project Identifier No. AG1-285 to be effective 12/19/2025.

Filed Date: 2/19/26.

Accession Number: 20260219-5112.

Comment Date: 5 p.m. ET 3/12/26.

Docket Numbers: ER26-1432-000.

Applicants: PJM Interconnection, L.L.C.

Description: Request for Prospective Waiver, and Requested to Shorten the Comment Period to 9 days of PJM Interconnection, L.L.C.

Filed Date: 2/18/26.

Accession Number: 20260218-5148.

Comment Date: 5 p.m. ET 2/27/26.

Docket Numbers: ER26-1433-000.

Applicants: PJM Interconnection, L.L.C.

Description: § 205(d) Rate Filing: Amendment to ISA No. 5692; Queue No. AF1-198 to be effective 4/21/2026.

Filed Date: 2/19/26.

Accession Number: 20260219-5011.

Comment Date: 5 p.m. ET 3/12/26.

Docket Numbers: ER26-1434-000.

Applicants: Southwest Power Pool, Inc.

Description: § 205(d) Rate Filing: 4489R1 OG&E Att AM to be effective 2/1/2026.

Filed Date: 2/19/26.

Accession Number: 20260219-5017.

Comment Date: 5 p.m. ET 3/12/26.

Docket Numbers: ER26-1435-000.

Applicants: Airport Solar I, LLC.

Description: Tariff Amendment: Notice of Cancellation of Market-Based Rate Tariff to be effective 2/20/2026.

Filed Date: 2/19/26.

Accession Number: 20260219-5075.

Comment Date: 5 p.m. ET 3/12/26.

Docket Numbers: ER26-1436-000.

Applicants: PJM Interconnection, L.L.C.

Description: Tariff Amendment: Notice of Cancellation of GIA, SA No. 7417; Project Identifier No. AG1-416 to be effective 4/21/2026.

Filed Date: 2/19/26.

Accession Number: 20260219-5098.

Comment Date: 5 p.m. ET 3/12/26.

Docket Numbers: ER26-1437-000.

Applicants: AEP Texas Inc.

Description: § 205(d) Rate Filing: AEPTX-Falcon BESS Generation Interconnection Agreement to be effective 2/3/2026.

Filed Date: 2/19/26.

Accession Number: 20260219-5118.

Comment Date: 5 p.m. ET 3/12/26.

Docket Numbers: ER26-1438-000.

Applicants: PJM Interconnection, L.L.C.

Description: § 205(d) Rate Filing: Original GIA, SA No. 7868; Project Identifier No. AF2-396 to be effective 1/20/2026.

Filed Date: 2/19/26.

Accession Number: 20260219-5126.

Comment Date: 5 p.m. ET 3/12/26.

Take notice that the Commission received the following foreign utility company status filings:

Docket Numbers: FC26-12-000.

Applicants: Ebes Sistemas de Energia S.A.

Description: Ebes Sistemas de Energia S.A. submits Notice of Self-Certification of Foreign Utility Company Status.

Filed Date: 2/19/26.

Accession Number: 20260219-5014.

Comment Date: 5 p.m. ET 3/12/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 19, 2026.
Debbie-Anne A. Reese,
Secretary.

[FR Doc. 2026-03670 Filed 2-23-26; 8:45 am]

BILLING CODE 6717-01-P